NUCLEAR REGULATORY COMMISSION

[Docket Number 40-6622]

Pathfinder Mines Corporation

AGENCY: U.S. Nuclear Regulatory Commission

ACTION: Amendment of Source Material License SUA-442 to change three reclamation milestone dates.

SUMMARY: Notice is hereby given that the U.S. Nuclear Regulatory Commission (NRC) has amended Pathfinder Mines Corporation's (PMC's) Source Material License SUA-442 to change three reclamation milestone dates. This amendment was requested by PMC in its letter dated October 29, 1999, and the receipt of the request by NRC was noticed in the Federal Register on December 16, 1999.

The license amendment modifies License Condition 50 to change completion dates for three site-reclamation milestones. The new dates approved by the NRC extend completion of placement of the interim cover over the tailings pile, completion of placement of the final radon barrier, and completion of placement of the erosion protection cover by two years. PMC attributes the delays to a substantial volume of water still remaining to be evaporated from the tailings system, before an interim cover could be placed. Based on the review of PMC's submittal, the NRC staff concludes that the delays are attributable to factors beyond the control of PMC, the proposed work is scheduled to be completed as expeditiously as practicable, and the added risk to the public health and safety is not significant.

An environmental assessment is not required since this action is categorically excluded under 10 CFR 51.22(c)(11), and an environmental report from the licensee is not required by 10 CFR 51.60(b)(2).

ADDRESS: PMC's amended license, and the NRC staff's technical evaluation of the amendment request are being made available for public inspection at the Commission's Public Document Room at 2120 L Street, NW (Lower Level), Washington, DC 20555.

FOR FURTHER INFORMATION CONTACT: Mohammad W. Haque, Uranium Recovery and Low-Level Waste Branch, Division of Waste Management, U.S. Nuclear Regulatory Commission, Washington, DC 20555. Telephone (301) 415-6640.

Dated at Rockville, Maryland, this 17th day of February 2000.
Thomas H. Essig,
Chief, Uranium Recovery and Low-Level Waste Branch, Division of Waste Management, Office of Nuclear Material Safety and Safeguards.

[FR Doc. 00-4462 Filed 2-24-00; 8:45 am]

BILLING CODE 7590-01-P